DEPARTMENT OF COMMERCE

National Oceanic and Atmospheric Administration

50 CFR Part 648

[Docket No. 000407096-0096-01; I.D. 082300A]

Fisheries of the Northeastern United States; Northeast Multispecies Fishery; Implementation of Conditional Closures

AGENCY: National Marine Fisheries Service (NMFS), National Oceanic and Atmospheric Administration (NOAA), Commerce.

ACTION: Implementation of conditional closures in the Gulf of Maine.

SUMMARY: NMFS announces that the Administrator, Northeast Region, NMFS (Regional Administrator), has determined that at least 759 metric tons (mt) of Gulf of Maine (GOM) cod have been landed as of July 31, 2000. Therefore, pursuant to regulations governing the Northeast multispecies fishery, the area identified as the Cashes Ledge Closure Area will be closed from November 1, 2000, through November 30, 2000, and the area identified as Rolling Closure Area VI will be closed from January 1, 2001, through January 31, 2001, to all fishing vessels, and to fishing gear capable of catching Northeast multispecies, except as provided under specific provisions in the regulations. The intent of this action is to protect overfished GOM cod resources.

DATES: Effective November 1, 2000, through January 31, 2001.

FOR FURTHER INFORMATION CONTACT: Richard A. Pearson, Fishery Policy Analyst, 978-281-9279.

SUPPLEMENTARY INFORMATION: Regulations implementing the conditional Cashes Ledge and GOM Rolling Closure Areas in Framework Adjustment 33 (65 FR 21658, April 24, 2000) became effective on June 1, 2000. To ensure that GOM cod landings remain within the target Total Allowable Catch (TAC) of 1,918 mt established for the 2000 fishing year, Framework 33 provided a mechanism to close the area identified as the Cashes Ledge Closure Area from November 1, 2000, through November 30, 2000, and the area identified as Rolling Closure Area VI from January 1, 2001, through January 31, 2001, if the Regional Administrator determines that at least 50 percent of the average between the F0.1 target TAC and the Fmax target TAC (1.67 million lb (759 mt) for the fishing year beginning May 1, 2000) has been landed as of, or before, July 31, 2000. The regulations at § 648.81(o) require NMFS to publish a notification action in the Federal Register informing the public of the implementation of the conditional closures if GOM cod landings have exceeded those levels.

Based on the best available scientific information, the Regional Administrator has determined that at least 1.67 million lb (759 mt) of GOM cod was landed as of July 31, 2000. Therefore, NMFS is required to implement the Cashes Ledge Closure Area, as described in § 648.81(h)(1), and to implement Rolling Closure Area VI, as described in § 648.81(g)(1)(vi), to better ensure that GOM cod landings remain within the target TAC for the fishing year beginning May 1, 2000. Pursuant to § 648.81(o), the area identified as the Cashes Ledge Closure Area will be closed from November 1, 2000, through November 30, 2000, and the area identified as Rolling Closure Area VI will be closed from January 1, 2001, through January 31, 2001, to all fishing vessels, and to fishing gear capable of catching Northeast multispecies, except as provided under § 648.81(g)(2) and (h)(2).

The coordinates of the closed areas are as follows:

Cashes Ledge Closure Area
Point | N. Lat. | W. Long.
CL1 | 43°07' | 69°02'
CL2 | 42°49.5' | 68°46'
CL3 | 42°46.5' | 68°50.5'
CL4 | 42°43.5' | 68°58.5'
CL5 | 42°42.5' | 69°17.5'
CL6 | 42°49.5' | 69°26'
CL1 | 43°07' | 69°02'

Rolling Closure Area VI
Point | N. Lat. | W. Long. (¹)
GM1 | 42°00' | (²)
GM2 | 42°00' | (³)
GM3 | 42°00' | (⁴)
GM4 | 42°00' | 70°00'
GM8 | 42°30' | 70°00'
GM9 | 42°30' | (²)
¹ Or other intersecting line:
² Massachusetts shoreline
³ Cape Cod shoreline on Cape Cod Bay
⁴ Cape Cod shoreline on the Atlantic Ocean

Classification

This action is required by 50 CFR part 648 and is exempt from review under Executive Order 12866.

Authority: 16 U.S.C. 1801 et seq.

Dated: August 29, 2000.
Richard W. Surdi,
Acting Director, Office of Sustainable Fisheries, National Marine Fisheries Service.

[FR Doc. 00-22665 Filed 9-1-00; 8:45 am]

BILLING CODE: 3510-22-S